FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 6, 2023.

A. Federal Reserve Bank of Cleveland (Bryan S. Huddleston, Vice President) 1455 East Sixth Street, Cleveland, Ohio 44101-2566. Comments can also be sent electronically to Comments.applications@lev.frb.org:

1. David R. Ross, Edna K. Ross, and Donna K. Ross, all of Whitley City, Kentucky; to join the Ross Family Group, a group acting in concert, to acquire voting shares of McCreary Bancshares, Inc., and thereby indirectly acquire voting shares of United Cumberland Bank, both of Whitley City, Kentucky.

B. Federal Reserve Bank of Atlanta (Erien O. Terry, Assistant Vice President) 1000 Peachtree Street NE, Atlanta, Georgia 30309; Comments can also be sent electronically to Applications.Comments@atl.frb.org:

1. Melessa Gail Ruth, Savannah, Tennessee, as trustee of the PB Bancshares Inc. ESOP (ESOP), Clifton, Tennessee; to retain voting shares of PB Bancshares, Inc., and thereby indirectly retain voting shares of People Bank, both of Clifton, Tennessee. ESOP owns PB Bancshares, Inc.

B. Federal Reserve Bank of Dallas (Karen Smith, Director, Mergers & Acquisitions) 2200 N Pearl St., Dallas, Texas 75201. Comments can also be sent electronically to Comments.applications@dal.frb.org:

1. The A.J. Lewis, Jr. GST Exempt Trust fbo A.J. Lewis III, A.J. Lewis III, as trustee, the A.J. Lewis, Jr. GST Exempt Trust fbo Steve C. Lewis, Steve C. Lewis, as trustee, and the A.J. Lewis, Jr. GST Exempt Trust fbo Laurie L. Saunders, Laurie L. Saunders, as trustee, all of San Antonio, Texas; to join the Lewis Family Control Group, a group acting in concert, to retain voting shares of Jefferson Bancshares, Inc., and thereby indirectly retain voting shares of Jefferson Bank, both of San Antonio, Texas.

Board of Governors of the Federal Reserve System.
Michele Taylor Fennell,
Deputy Associate Secretary of the Board.

[FR Doc. 2023-05865 Filed 3-21-23; 8:45 am]

BILLING CODE P